COMMITTEE FOR PURCHASE FROM PEOPLE WHO ARE BLIND OR SEVERELY DISABLED

Procurement List; Additions

AGENCY: Committee for Purchase From People Who Are Blind or Severely Disabled.

ACTION: Additions to and deletions from the procurement list.

SUMMARY: This action adds service(s) to the Procurement List that will be furnished by nonprofit agencies employing persons who are blind or have other severe disabilities.

DATES: Date added to and deleted from the Procurement List: September 17, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 6/2/2023 and 6/30/2023, the Committee for Purchase From People Who Are Blind or Severely Disabled published notice of proposed additions to the Procurement List. This notice is published pursuant to 41 U.S.C. 8503(a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping, or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Grounds Maintenance

Mandatory for: US Air Force, Robins Air Force Base, Robins AFB, GA

Designated Source of Supply: Mavagi Enterprises, Inc., San Antonio, TX

Contracting Activity: DEPT OF THE AIR FORCE, FA8501 AFSC PZIO

Service Type: Janitorial Service

Mandatory for: FAA, Albuquerque Air Route Traffic Control Center, Albuquerque, NM

Designated Source of Supply: Adelante Development Center, Inc., Albuquerque, NM

Contracting Activity: FEDERAL AVIATION ADMINISTRATION, 697DCK REGIONAL ACQUISITIONS SVCS

Service Type: Janitorial Service

Mandatory for: Federal Aviation Administration, Fayetteville Air Traffic Control Tower, Fayetteville, NC

Designated Source of Supply: OE Enterprises, Inc., Hillsborough, NC

Contracting Activity: FEDERAL AVIATION ADMINISTRATION, 697DCK REGIONAL ACQUISITIONS SVCS

Service Type: Grounds Maintenance

Mandatory for: U.S. Department of Justice, Robert F. Kennedy Building, Washington, DC

Designated Source of Supply: Melwood Horticultural Training Center, Inc., Upper Marlboro, MD

Contracting Activity: OFFICES, BOARDS AND DIVISIONS, U.S. DEPT OF JUSTICE

Michael R. Jurkowski,
Acting Director, Business Operations.

[FR Doc. 2023-17807 Filed 8-17-23; 8:45 am]

BILLING CODE 6353-01-P